DEPARTMENT OF THE INTERIOR

National Park Service

[NPS-WASO-NAGPRA-23719; PPWOCRADN0-PCU00RP14.R50000]

Notice of Inventory Completion: U.S. Department of the Interior, Fish and Wildlife Service, Office of Law Enforcement, Denver, CO

AGENCY: National Park Service, Interior.

ACTION: Notice.

SUMMARY: The U.S. Department of the Interior, Fish and Wildlife Service, Office of Law Enforcement (USFWS OLE), has completed an inventory of human remains and an associated funerary object, in consultation with the appropriate Indian Tribes or Native Hawaiian organizations, and has determined that there is a cultural affiliation between the human remains and associated funerary object and present-day Indian Tribes or Native Hawaiian organizations. Lineal descendants or representatives of any Indian Tribe or Native Hawaiian organization not identified in this notice that wish to request transfer of control of these human remains and associated funerary object should submit a written request to the USFWS OLE. If no additional requestors come forward, transfer of control of the human remains and associated funerary object to the lineal descendants, Indian Tribes, or Native Hawaiian organizations stated in this notice may proceed.

DATES: Lineal descendants or representatives of any Indian Tribe or Native Hawaiian organization not identified in this notice that wish to request transfer of control of these human remains and associated funerary object should submit a written request with information in support of the request to the USFWS OLE at the address in this notice by October 5, 2017.

ADDRESSES: Steve Oberholtzer, Special Agent in Charge, U.S. Fish and Wildlife Service Office of Law Enforcement, Mountain-Prairie Region, P.O. Box 25486—DFC, Denver, CO 80225, telephone (303) 236-7893, email steve_oberholtzer@fws.gov.

SUPPLEMENTARY INFORMATION: Notice is here given in accordance with the Native American Graves Protection and Repatriation Act (NAGPRA), 25 U.S.C. 3003, of the completion of an inventory of human remains and associated funerary objects under the control of the USFWS OLE. The human remains and associated funerary object were removed from Ontario County, NY.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by the USFWS OLE professional staff in consultation with representatives of the Onondaga Nation; Seneca Nation of Indians (previously listed as the Seneca Nation of New York); Tonawanda Band of Seneca (previously listed as the Tonawanda Band of Seneca Indians of New York); and Tuscarora Nation, as well as the Haudenosaunee Standing Committee on Burial Rules & Regulations. The Oneida Nation (previously listed as the Oneida Tribe of Indians of Wisconsin) deferred to the Haudenosaunee Standing Committee. The Seneca-Cayuga Nation (previously listed as the Seneca-Cayuga Tribe of Oklahoma) deferred to the Cayuga Nation and the Haudenosaunee Standing Committee. The Cayuga Nation; Oneida Nation of New York; and Saint Regis Mohawk Tribe (previously listed as the St. Regis Band of Mohawk Indians of New York) were invited to consult but declined to participate.

History and Description of the Remains

On an unknown date, human remains consisting of 80 loose teeth, representing, at minimum, 12 individuals (seizure-item number 817879-1) were removed from the Alva Reed Farm, Richmond Mills (Hne 105-4) or the site known as the Reed Fort or Richmond Mills site, all of which are located in Ontario County, NY. The ages of the individuals represented by the dentition are 11 to 12 years; 14 to 15 years; 6 to 6½ years; and 8½ to 10 years. No known individuals were identified. The associated funerary object is 1 bone roundel made from a human cranial bone, which was contained together with the dentition in a display case.

On an unknown date, human remains consisting of 22 loose teeth, representing, at minimum, 5 individuals (seizure-item number 817890-2) were removed from an unknown location in the Finger Lakes region of New York, and more likely than not in Ontario County, NY. Adults and children of both sexes are represented. The age of one child is 9 or 10 years. Five teeth, which represent two individuals, have green copper oxide staining. This type of staining is often seen in Protohistoric and historic burials. Prominent shoveling and double-shoveling are indicative of Native American descent.

On an unknown date, human remains consisting of 53 loose teeth, representing, at minimum, 8 individuals (seizure-item number 817890-5) were removed from an unknown location in the Finger Lakes region of New York, and more likely than not in Ontario County, NY. Adults and children of both sexes are represented. The age of one child is 8 to 8½ years, and the other is 10½ to 11 years. Four teeth, which represent one individual, have taken on an orange hue. Prominent shoveling and double-shoveling are indicative of Native American descent.

On May 9, 2002, as part of a criminal investigation, the USFWS OLE purchased a display case containing what was suspected to be Native American human remains (seizure-item number 817879-1). The display case contained what appeared to be human teeth and a bone rondel. The human remains were being sold by an antique store in the Finger Lakes region of New York. On June 26, 2002, as part of the same investigation, the USFWS OLE seized further items suspected to be Native American human remains (seizure-item numbers 817890-2 and 817890-5), which were being held by a private individual, who also supplied the antiques store with the previously purchased human remains. The individual offered these items for sale to the USFWS OLE. After lengthy litigation regarding the case, the Department of Justice transferred the items to the USFWS OLE for NAGPRA compliance.

The Reed Farm site suggests a Protohistoric or historic time frame and, based on historical evidence, are believed to represent early historic Seneca villages. Archeological evidence indicates that the Owasco culture occupied central and eastern New York and the Glaciated Alleghany Plateau during the Woodland Stage (1000 B.C.—A.D. 1600). Around A.D. 1600, the Owasco culture underwent a transition. Between A.D. 1450 and 1600, diagnostic characteristics indicative of the Seneca culture begin to become evident in the archeological record. Seneca occupation of Ontario County, NY, is well-documented. From the early 16th century until the American Revolution, the Seneca occupied a region between the Genesee River and Canandaigua Lake, which includes Livingston and Ontario Counties, NY, as well as the southern portion of Monroe County, NY. Today, the Seneca are represented by three federally recognized Indian Tribes: The Seneca Nation of Indians (previously listed as the Seneca Nation of New York); Seneca-Cayuga Nation (previously listed as the Seneca-Cayuga Tribe of Oklahoma); and Tonawanda Band of Seneca (previously listed as the Tonawanda Band of Seneca Indians of New York).

Determinations Made by the U.S. Department of Interior, Fish and Wildlife Service, Office of Law Enforcement

Officials of the USFWS OLE have determined that:

• Pursuant to 25 U.S.C. 3001(9), the human remains described in this notice represent the physical remains of a minimum of 25 individuals of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and the Seneca Nation of Indians (previously listed as the Seneca Nation of New York); Seneca-Cayuga Nation (previously listed as the Seneca-Cayuga Tribe of Oklahoma); and Tonawanda Band of Seneca (previously listed as the Tonawanda Band of Seneca Indians of New York).

Additional Requestors and Disposition

Lineal descendants or representatives of any Indian Tribe or Native Hawaiian organization not identified in this notice that wish to request transfer of control of these human remains and associated funerary object should submit a written request with information in support of the request to Steve Oberholtzer, Special Agent in Charge, U.S. Fish and Wildlife Service Office of Law Enforcement, Mountain-Prairie Region, P.O. Box 25486—DFC, Denver, CO 80225, telephone (303) 236-7893, email steve_oberholtzer@fws.gov, by October 5, 2017. After that date, if no additional requestors have come forward, transfer of control of the human remains and associated funerary object to the Seneca Nation of Indians (previously listed as the Seneca Nation of New York); Seneca-Cayuga Nation (previously listed as the Seneca-Cayuga Tribe of Oklahoma); and Tonawanda Band of Seneca (previously listed as the Tonawanda Band of Seneca Indians of New York) may proceed.

The USFWS OLE is responsible for notifying the Cayuga Nation; Oneida Nation (previously listed as the Oneida Tribe of Indians of Wisconsin); Oneida Nation of New York; Onondaga Nation; Saint Regis Mohawk Tribe (previously listed as the St. Regis Band of Mohawk Indians of New York); Seneca Nation of Indians (previously listed as the Seneca Nation of New York); Seneca-Cayuga Nation (previously listed as the Seneca-Cayuga Tribe of Oklahoma); Tonawanda Band of Seneca (previously listed as the Tonawanda Band of Seneca Indians of New York); Tuscarora Nation; and the Haudenosaunee Standing Committee on Burial Rules & Regulations that this notice has been published.

Dated: August 29, 2017.
Sarah Glass,
Acting Manager, National NAGPRA Program.

[FR Doc. 2017-18683 Filed 9-1-17; 8:45 am]

BILLING CODE 4312-52-P